DEPARTMENT OF COMMERCE

National Oceanic and Atmospheric Administration

RIN 0648-XG415-X

Marine Mammals; File No. 22222

AGENCY: National Marine Fisheries Service (NMFS), National Oceanic and Atmospheric Administration (NOAA), Commerce.

ACTION: Notice; receipt of application.

SUMMARY: Notice is hereby given that Tamara McGuire, 310 W 123rd Ave., Anchorage, AK 99515, has applied in due form for a permit to conduct research on endangered Cook Inlet beluga whales.

DATES: Written, telefaxed, or email comments must be received on or before September 17, 2018.

ADDRESSES: The application and related documents are available for review by selecting “Records Open for Public Comment” from the “Features” box on the Applications and Permits for Protected Species (APPS) home page, https://apps.nmfs.noaa.gov, and then selecting File No. 22222 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216).

Ms. McGuire requests a 5-year permit to conduct research on endangered Cook Inlet beluga whales (Delphinapterus leucas), in Cook Inlet, AK. The purpose of the research is to (1) continue to build and maintain the species' photo-identification catalog, (2) describe the population's characteristics, and (3) determine life history characteristics of the species. Research may result in up to 6,800 annual takes of whales by Level B harassment during vessel surveys for observation, photography, and photo-identification. Up to 100 harbor seals (Phoca vitulina) annually could be incidentally disturbed during surveys.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 14, 2018.
Julia Marie Harrison,
Chief, Permits and Conservation Division, Office of Protected Resources, National Marine Fisheries Service.

[FR Doc. 2018-17772 Filed 8-16-18; 8:45 am]

BILLING CODE 3510-22-P